DEPARTMENT OF THE INTERIOR

National Park Service

[NPS-WASO-NRNHL-25050; PPWOCRADI0, PCU00RP14.R50000]

National Register of Historic Places; Notification of Pending Nominations and Related Actions

AGENCY: National Park Service, Interior.

ACTION: Notice.

SUMMARY: The National Park Service is soliciting comments on the significance of properties nominated before February 10, 2018, for listing or related actions in the National Register of Historic Places.

DATES: Comments should be submitted by March 15, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 10, 2018. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Park County

South Platte River Bridge, Cty. Rd. 90a over S. Platte R., mi. marker 40, Lake George vicinity, MP100002221

Weld County

Artesia Farm, 11820 Cty. Rd. 64½, Greeley vicinity, MP100002223

MAINE

Cumberland County

Southgate Farm, 577 U.S. 1, Scarborough, SG100002225

Franklin County

Herbert, The, Main St., Kingfield, SG100002226

Rangeley Tavern, 2443 Main St., Rangeley, SG100002227

NEW JERSEY

Passaic County

Arch Street Bridge over the Passaic River, Arch St. over Passaic R., Paterson City, SG100002230

Straight Street Bridge over the Passaic River, Straight St. over Passiac R., Paterson City, SG100002231

OHIO

Licking County

Jersey Independent Order of Odd Fellows Hall, 10424 Morse Rd. SW, Jersey, SG100002232

Outville Hay and Grain Company Building, 6641 Outville Rd. SW, Outville, SG100002233

UTAH

San Juan County

Coal Bed Village Site, Address Restricted, Blanding vicinity, SG100002234

WISCONSIN

Kenosha County

Vincent—McCall Company Building, 2122 56th St., Kenosha, SG100002235

Milwaukee County

Grand Avenue Elementary School, 2708 W Wisconsin Ave., Milwaukee, SG100002236

Additional documentation has been received for the following resource:

MISSOURI

Greene County

Boone, Nathan, House, 1.75 mi. N of Ash Grove on Hwy. V, Ash Grove vicinity, AD69000103

Nomination submitted by Federal Preservation Officers:

The State Historic Preservation Officer reviewed the following nomination and responded to the Federal Preservation Officer within 45 days of receipt of the nomination and supports listing the property in the National Register of Historic Places.

FLORIDA

Duval County

St. Johns Light, 500 ft. NE of jct. of Baltimore St. & Naval Station St. 7, Jacksonville, MP100002224

Authority: 60.13 of 36 CFR part 60.

Dated: February 13, 2018.
Julie H. Ernstein,
Acting Chief, National Register of Historic Places/National Historic Landmarks Program.

[FR Doc. 2018-04044 Filed 2-27-18; 8:45 am]

BILLING CODE 4312-52-P